DEPARTMENT OF COMMERCE

International Trade Administration

A-570-831

Notice of Extension of Time Limit for Final Results of Antidumping Duty Administrative Review: Fresh Garlic from the People's Republic of China

AGENCY: Import Administration, International Trade Administration, Department of Commerce.

EFFECTIVE DATE: May 26, 2005.

FOR FURTHER INFORMATION CONTACT: Jim Nunno, AD/CVD Operations, Office of China/Non-Market Economy Compliance, Import Administration, International Trade Administration, U.S. Department of Commerce, 14th Street and Constitution Avenue, NW, Washington, DC 20230; telephone; (202) 482-0783.

SUPPLEMENTARY INFORMATION:

Background

The Department of Commerce (the Department) published the preliminary results of the antidumping duty administrative review on fresh garlic from the People's Republic of China on December 7, 2004, which included a decision to extend the final results deadline until May 30, 2005. See Fresh Garlic from the People's Republic of China: Preliminary Results of Antidumping Duty Administrative Review and Rescission in Part, 69 FR 70638 (December 7, 2004).

Extension of Time Limits for Final Results

Pursuant to section 751(a)(3)(A) of the Tariff Act of 1930, as amended (the Act), and section 351.213(h)(1) of the Department's regulations, the Department shall issue the preliminary results of an administrative review within 245 days after the last day of the anniversary month of the date of publication of the order. The Act further provides that the Department shall issue the final results of review within 120 days after the date on which the notice of the preliminary results was published in the Federal Register. However, if the Department determines that it is not practicable to complete the review within this time period, section 751(a)(3)(A) of the Act and section 351.213(h)(2) of the Department's regulations allow the Department to extend the 245-day period to 365 days and the 120-day period to 180 days. We have determined that it is not practicable to complete this review by May 30, 2005. Several significant issues were raised in the briefs which warrant further analysis, including matters pertaining to the appropriate calculation methodology for normal value and which surrogate companies should be used to derive surrogate costs for factory overhead, selling, general and administrative expenses, and profit.

Section 751(a)(3)(A) of the Act and section 351.213(h) of the Department's regulations allow the Department to extend the deadline for the final results of a review to a maximum of 180 days from the date on which the notice of the preliminary results was published. For the reasons noted above, the Department is fully extending the time limit for the completion of these final results until no later than Monday, June 6, 2005, which is the next business day after 180 days from the date on which the notice of the preliminary results was published.

This notice is issued and published in accordance with section 751(a)(3)(A) of the Act.

Dated: May 20, 2005.
Barbara E. Tillman,
Acting Deputy Assistant Secretary for Import Administration.

[FR Doc. E5-2683 Filed 5-25-05; 8:45 am]

BILLING CODE 3510-DS-S